DEPARTMENT OF LABOR

Employment and Training Administration

[TA-W-63,533]

Thomasville Furniture Industries, Inc., Upholstery Plant 9, Hickory, NC; Notice of Negative Determination Regarding Application for Reconsideration

By application dated July 17, 2008, a company official requested administrative reconsideration of the Department's negative determination regarding eligibility for workers and former workers of the subject firm to apply for Trade Adjustment Assistance (TAA) and Alternative Trade Adjustment Assistance (ATAA). The denial notice was signed on July 2, 2008 and published in the Federal Register on July 21, 2008 (73 FR 42371).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, which was filed on behalf of workers at Thomasville Furniture Industries, Inc., Upholstery Plant 9, Hickory, North Carolina engaged in the production of upholstered furniture, was denied based on the findings that sales and production of upholstered furniture at the subject firm did not decrease from 2006 to 2007, and during the period of January through May 2008 when compared to the same period in 2007. Furthermore, there was no shift in production from the subject firm to a foreign country during the relevant period.

In the request for reconsideration, the petitioner stated that in order to reveal the negative trend in sales and production, the Department should investigate the time period prior to 2006 and compare current data with 2005. To support his allegation, the petitioner attached financial information for sister plants from 2004, 2005 and 2006. The information was submitted to the Department in previous investigations, which led to certifications of those facilities. The petitioner seems to allege that because those facilities were previously certified eligible for TAA, the workers of the subject firm should be also eligible for TAA.

When assessing eligibility for TAA, the Department exclusively considers employment, production and sales during the relevant time period (one year prior to the date of the petition). Therefore, events occurring in 2005 are outside of the relevant time period and are not relevant in this investigation.

Should conditions change in the future, the company is encouraged to file a new petition on behalf of the worker group which will encompass an investigative period that will include any changing conditions.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC, this 31st day of July, 2008.
Elliott S. Kushner,
Certifying Officer, Division of Trade Adjustment Assistance.

[FR Doc. E8-18171 Filed 8-6-08; 8:45 am]

BILLING CODE 4510-FN-P